DEPARTMENT OF COMMERCE

National Institute of Standards and Technology

[Docket No. 120817356-2356-01]

Request for Comments on U.S. Technical Participation in the 14th Conference of the International Organization of Legal Metrology (OIML)

AGENCY: National Institute of Standards and Technology, Commerce.

ACTION: Notice; request for comments.

SUMMARY: The National Institute of Standards and Technology (NIST) seeks comments concerning U.S. technical participation in the 14th Conference of the International Organization of Legal Metrology (OIML). This conference is held once every four years and was last held in 2008.

Interested parties are requested to review and submit comments on the 24 OIML Recommendations and Documents on legal measuring instruments that will be presented for ratification by the Conference. Comments may also be submitted on other issues relevant to the Conference.

DATES: Written comments should be submitted to the NIST International Legal Metrology Program no later than Friday, September 21, 2012, at 5 p.m. Eastern Time. The 14th OIML International Conference of Legal Metrology will be held in Bucharest, Romania, Wednesday, October 3 through Thursday, October 4, 2012.

ADDRESSES: Written comments should be sent to the International Legal Metrology Program, Office of Weights and Measures, National Institute of Standards and Technology, 100 Bureau Drive, Mail Stop 2600, Gaithersburg, MD 20899-2600. Comments may also be submitted via email to ralph.richter@nist.gov.

FOR FURTHER INFORMATION CONTACT: Mr. Ralph Richter, International Legal Metrology Program, Office of Weights and Measures, National Institute of Standards and Technology, 100 Bureau Drive, Mail Stop 2600, Gaithersburg, MD 20899-2600; telephone: 301/975-3997; fax: 301/975-8091; email: ralph.richter@nist.gov.

SUPPLEMENTARY INFORMATION:

Background

The International Organization of Legal Metrology (OIML) is an intergovernmental treaty organization in which the United States and 56 other nations are members. Its principal purpose is to harmonize national laws and regulations pertaining to testing and verifying the performance of legal measuring instruments used for equity in commerce, for public and worker health and safety, and for monitoring and protecting the environment. The harmonized results promote the international trade of measuring instruments and products affected by measurement.

The U.S. Department of State has delegated technical participation in OIML to the National Institute of Standards and Technology. NIST coordinates participation of U.S. manufacturers, users of weighing and measuring instruments, legal metrology officials and other U.S. stakeholders in the technical work of OIML by circulating draft voluntary standards (called Recommendations) and other OIML publications for comment. NIST also leads U.S. delegations to OIML Technical Meetings.

Additional Information

All parties with an interest in the work of the OIML are requested to review and submit comments on any or all of the 24 Recommendations and Documents that will be presented for ratification by the Conference. All submitted comments will be reviewed and considered by NIST staff in the development of U.S. positions that will be put forward at the 14th Conference of OIML. Within two weeks of the comment submission deadline established in the DATES section above, all parties that submit comments will be provided with feedback from NIST staff concerning the disposition of their comments.

Each of the 24 Recommendations and Documents that will be presented for ratification by the Conference has already gone through a multi-year development and review-process involving technical experts and legal metrology experts from the United States and around the world. Ratification by the Conference is the final step in this process. The Recommendations and Documents have been divided into two categories—Category 1: those already approved by the International Committee of Legal Metrology (CIML) between 2009 and 2011, and Category 2: those that are expected to be submitted directly to the Conference for ratification. Because the Recommendations and Documents in Category 2 have not yet received CIML approval, comments received on these Recommendations and Documents are of additional importance to NIST staff. The 24 Recommendations and Documents and the OIML-member nations holding the secretariat responsible for their development are listed below:

Category 1

• R14, “Polarimetric saccharimeters graduated in accordance with the ICUMSA International Sugar Scale” (Russian Federation);

• R35, “Material Measures of Length for General Use” (United Kingdom);

• R48, “Tungsten ribbon lamps for the calibration of radiation thermometers” (Russian Federation);

• R75, “Heat meters” (Germany);

• R80, “Road and rail tankers with level gauging” (Germany);

• R84, “Platinum, copper, and nickel resistance thermometers (for industrial and commercial use)” (Russian Federation);

• R92, “Wood moisture meters—Verification methods and equipment: general provisions” (P.R. China and United States);

• R120, “Standard capacity measures for testing measuring systems for liquids other than water” (Switzerland);

• R124, “Refractometers for the measurement of the sugar content of grape musts” (Russian Federation);

• R127, “Radiochromic film dosimetry system for ionizing radiation processing of materials and Products” (United States);

• R131, “Polymethylmethacrylate (PMMA) dosimetry systems for ionizing radiation processing of materials and products” (United States);

• R132, “Alanine EPR dosimetry systems for ionizing radiation processing of materials and products” (United States);

• R133, “Liquid-in-glass thermometers” (United States);

• R134, “Automatic instruments for weighing road vehicles in motion and measuring axle loads” (United Kingdom);

• R137, “Gas Meters” (Netherlands);

• Amendment to R138, “Vessels for commercial transactions” (Japan);

• R143, “Instruments for the continuous measurement of SO2 in stationary source emissions” (Netherlands);

• B3, “OIML Basic Certificate System for OIML Type Evaluation of Measuring Instruments” (United States);

• B10, “Framework for a Mutual Acceptance Arrangement on OIML Type Evaluations” (United States); and

• D16, “Principles of assurance of metrological control” (Czech Republic).

Category 2

• R46. “Active electrical energy meters” (Australia);

• R106, “Automatic rail-weighbridges” (United Kingdom);

• R126, “Evidential Breath Analyzers” (France); and

• D1, “Considerations for a law on metrology” (United States).

Parties with an expressed interest in particular topics may obtain copies of the OIML Conference technical agenda, including copies of the Recommendations to be ratified, from the OIML International Conference Web site at http://bucharest.oiml.org, at the OIML Web site at www.oiml.org, or from the NIST International Legal Metrology Program.

Dated: August 24, 2012.
Willie E. May,
Associate Director for Laboratory Programs.

[FR Doc. 2012-21460 Filed 8-29-12; 8:45 am]

BILLING CODE 3510-13-P